DEPARTMENT OF TRANSPORTATION

Federal Aviation Administration

14 CFR Part 39

[Docket No. FAA-2014-0179; Directorate Identifier 2014-NE-03-AD; Amendment 39-17956; AD 2014-17-03]

RIN 2120-AA64

Airworthiness Directives; Technify Motors GmbH Reciprocating Engines

AGENCY: Federal Aviation Administration (FAA), DOT.

ACTION: Final rule.

SUMMARY: We are adopting a new airworthiness directive (AD) for certain Technify Motors GmbH (type certificate previously held by Thielert Aircraft Engines GmbH) TAE 125-02-99 and TAE 125-02-114 reciprocating engines. This AD requires removal of each high-pressure (HP) fuel pump before 300 flight hours (FHs) in service or within 55 FHs after the effective date of the AD, whichever occurs later. This AD was prompted by in-flight shutdowns on airplanes with TAE 125-02 engines. We are issuing this AD to prevent failure of the HP fuel pump, which could result in damage to the engine and damage to the airplane.

DATES: This AD becomes effective October 2, 2014.

ADDRESSES: For service information identified in this AD, contact Technify Motors GmbH, Platanenstrasse 14, D-09356 Sankt Egidien, Germany, phone: +49-37204-696-0; fax: +49-37204-696-55; email: info@centurion.aero. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2014-0179; or in person at the Docket Management Facility between 9 a.m. and 5 p.m., Monday through Friday, except Federal holidays. The AD docket contains this AD, the mandatory continuing airworthiness information (MCAI), the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Kenneth Steeves, Aerospace Engineer, Engine Certification Office, FAA, Engine & Propeller Directorate, 12 New England Executive Park, Burlington, MA 01803; phone: 781-238-7765; fax: 781-238-7199; email: kenneth.stevees@faa.gov.

SUPPLEMENTARY INFORMATION:

Discussion

We issued a notice of proposed rulemaking (NPRM) to amend 14 CFR part 39 by adding an AD that would apply to the specified products. The NPRM was published in the Federal Register on May 23, 2014 (79 FR 29693). The NPRM proposed to correct an unsafe condition for the specified products. The MCAI states:

In-flight shut down occurrences have been reported on aeroplanes equipped with TAE 125-02 engines. The initial results of the investigations showed that abnormal high wear of the high pressure fuel pumps was the probable cause of the engine failure.

This condition, if not corrected, could result in further cases of engine power loss events and consequent potential loss of control of the aeroplane.

Comments

We gave the public the opportunity to participate in developing this AD. We received no comments on the NPRM (79 FR 29693, May 23, 2014).

Conclusion

We reviewed the available data and determined that air safety and the public interest require adopting this AD as proposed.

Costs of Compliance

We estimate that this AD affects 160 engines installed on airplanes of U.S. registry. We also estimate that it will take about 1 hour per engine to comply with this AD. The average labor rate is $85 per hour. Based on these figures, we estimate the cost of the AD on U.S. operators to be $13,600.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-17-03 Technify Motors GmbH (Type Certificate previously held by Thielert Aircraft Engines GmbH): Amendment 39-17956; Docket No. FAA-2014-0179; Directorate Identifier 2014-NE-03-AD.

(a) Effective Date

This AD becomes effective October 2, 2014.

(b) Affected ADs

None.

(c) Applicability

This AD applies to TAE 125-02-99 and TAE 125-02-114 reciprocating engines with a high-pressure (HP) fuel pump, part number (P/N) 05-7312-K005301 or P/N 05-7312-K005302.

(d) Reason

This AD was prompted by in-flight shutdowns on airplanes with TAE 125-02 engines. We are issuing this AD to prevent failure of the HP fuel pump, which could result in damage to the engine and damage to the airplane.

(e) Actions and Compliance

Comply with this AD unless already done. Remove each HP fuel pump, P/N 05-7312-K005301 and P/N 05-7312-K005302, before 300 flight hours (FHs) in service or within 55 FHs after the effective date of this AD, whichever occurs later.

(f) Installation Prohibition

After the effective date of this AD, do not install a TAE 125-02-99 or TAE 125-02-114 engine with HP fuel pump, P/N 05-7312-K005301 or P/N 05-7312-K005302, onto any airplane.

(g) Alternative Methods of Compliance (AMOCs)

The Manager, Engine Certification Office, FAA, may approve AMOCs to this AD. Use the procedures found in 14 CFR 39.19 to make your request.

(h) Related Information

(1) For more information about this AD, contact Kenneth Steeves, Aerospace Engineer, Engine Certification Office, FAA, Engine & Propeller Directorate, 12 New England Executive Park, Burlington, MA 01803; phone: 781-238-7765; fax: 781-238-7199; email: kenneth.steeves@faa.gov.

(2) Refer to MCAI European Aviation Safety Agency AD 2013-0279, dated November 26, 2013, for more information. You may examine the MCAI in the AD docket on the Internet at http://www.regulations.gov/#!searchResults;rpp=25;po=0;s=FAA-2014-0179;fp=true;ns=true.

(3) Technify Motors GmbH Service Bulletin No. TM TAE 125-1017 P1, Revision 1, dated September 20, 2013, which is not incorporated by reference in this AD, can be obtained from Technify Motors GmbH using the contact information in paragraph (h)(4) of this AD.

(4) For service information identified in this AD, contact Technify Motors GmbH, Platanenstrasse 14, D-09356 Sankt Egidien, Germany, phone: +49-37204-696-0; fax: +49-37204-696-55; email: info@centurion.aero.

(5) You may view this service information at the FAA, Engine & Propeller Directorate, 12 New England Executive Park, Burlington, MA. For information on the availability of this material at the FAA, call 781-238-7125.

(i) Material Incorporated by Reference

None.

Issued in Burlington, Massachusetts, on August 18, 2014.
Richard P. Warren,
Acting Assistant Directorate Manager, Engine & Propeller Directorate, Aircraft Certification Service.

[FR Doc. 2014-20451 Filed 8-27-14; 8:45 am]

BILLING CODE 4910-13-P